DEPARTMENT OF COMMERCE

International Trade Administration

[C-570-193]

Erythritol From the People's Republic of China: Final Affirmative Countervailing Duty Determination

AGENCY: Enforcement and Compliance, International Trade Administration, Department of Commerce.

SUMMARY: The U.S. Department of Commerce (Commerce) determines that countervailable subsidies are being provided to producers and exporters of erythritol from the People's Republic of China (China). The period of investigation (POI) is January 1, 2023, through December 31, 2023.

DATES: Applicable February 10, 2026.

FOR FURTHER INFORMATION CONTACT: Christopher Doyle, AD/CVD Operations, Office IX, Enforcement and Compliance, International Trade Administration, U.S. Department of Commerce, 1401 Constitution Avenue NW, Washington, DC 20230; telephone: (202) 482-2805.

SUPPLEMENTARY INFORMATION:

Background

On May 16, 2025, Commerce published the Preliminary Determination of this countervailing duty (CVD) investigation of erythritol from China, in accordance with section 705(a)(1) of the Tariff Act of 1930, as amended (the Act), and 19 CFR 351.210(b)(3), and aligned this CVD investigation with the final determination in the companion less-than-fair-value (LTFV) investigation.¹ On June 24, 2025, we issued a post-preliminary analysis memorandum regarding certain programs.²

¹ See Erythritol from the People's Republic of China: Preliminary Affirmative Countervailing Duty Determination and Alignment of Final Determination with Final Antidumping Duty Determination, 90 FR 21000 (May 16, 2025) (Preliminary Determination), and accompanying Preliminary Decision Memorandum (PDM).

² See Memorandum, “Post-Preliminary Analysis Memorandum for the Countervailing Duty Investigation of Erythritol from the People's Republic of China,” dated June 24, 2025 (Post-Preliminary Analysis).

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for this final determination is now February 4, 2026.

³ See Memorandum, “Deadlines Affected by the Shutdown of the Federal Government,” dated November 14, 2025.

⁴ See Memorandum, “Tolling of all Case Deadlines,” dated November 24, 2025.

For a complete discussion of the events that followed the Preliminary Determination, see the Issues and Decision Memorandum.⁵ The Issues and Decision Memorandum is a public document and is made available to the public via ACCESS. ACCESS is available to registered users at https://access.trade.gov. In addition, a complete version of the Issues and Decision Memorandum can be accessed directly at https://access.trade.gov/public/FRNoticesListLayout.aspx.

⁵ See Memorandum, “Issues and Decision Memorandum for the Final Affirmative Determination in the Countervailing Duty Investigation of Erythritol from the People's Republic of China,” dated concurrently with, and hereby adopted by, this notice (Issues and Decision Memorandum).

Scope of the Investigation

The merchandise covered by the scope of this investigation is Erythritol from China. For a complete description of the scope of this investigation, see Appendix I.

Scope Comments

In the Preliminary Scope Memorandum, we set aside a period of time for parties to raise issues regarding product coverage (i.e., scope) in scope-specific case briefs or other written comments.⁶ We received comments from interested parties on the scope of the investigation as it appeared in the Preliminary Determination. For a summary of the product coverage comments submitted to the record for this final determination, and accompanying discussion and analysis of all comments timely received, see the Final Scope Decision Memorandum.⁷ After analyzing these comments, we made one change to the scope of the investigation. Commerce is therefore modifying the scope language as it appeared in the Initiation Notice and Preliminary Determination. See the scope in Appendix I to this notice.

⁶ See Memorandum, “Less-Than-Fair-Value and Countervailing Duty Investigations of Erythritol from the People's Republic of China: Preliminary Scope Decision Memorandum,” dated July 11, 2025 (Preliminary Scope Memorandum).

⁷ See Memorandum, “Final Scope Decision Memorandum,” dated concurrently with this final determination (Final Scope Decision Memorandum).

Verification

As provided in section 782(i) of the Act, Commerce conducted verification the information reported by Baolingbao Biology Co., Ltd. (Baolingbao Biology) and Shandong Sanyuan Biotechnology for use in the final determination. We used standard verification procedures, including an examination of relevant accounting records and original source documents provided at verification.⁸

⁸ See Memorandum, “Verification of the Questionnaire Responses of Shandong Sanyuan Biotechnology Co., Ltd.,” dated July 16, 2025; see also Memorandum, “Verification of the Questionnaire Responses of Baolingbao Biology Company Limited in the Countervailing Duty Investigation of Erythritol from the People's Republic of China,” dated July 18, 2025.

Analysis of Subsidy Programs and Comments Received

The subsidy programs under investigation and the issues raised in the case and rebuttal briefs that were submitted by interested parties in this investigation are discussed in the Issues and Decision Memorandum. For a list of the issues raised by interested parties and addressed in the Issues and Decision Memorandum, see Appendix II to this notice.

Methodology

Commerce conducted this investigation in accordance with section 701 of the Act. For each of the subsidy programs found to be countervailable, Commerce determines that there is a subsidy, i.e., a financial contribution by an “authority” that gives rise to a benefit to the recipient, and that the subsidy is specific.⁹ For a full description of the methodology underlying our final determination, see the Issues and Decision Memorandum.

⁹ See sections 771(5)(B) and (D) of the Act regarding financial contribution; see also section 771(5)(E) of the Act regarding benefit; and section 771(5A) of the Act regarding specificity.

In making this final determination, Commerce relied, in part, on facts otherwise available, including with an adverse inference, pursuant to sections 776(a) and (b) of the Act. For a full discussion of our application of adverse facts available (AFA), see the Issues and Decision Memorandum at the section entitled “Uses of Facts Available and Application of Adverse Inferences.” ¹⁰

¹⁰ See also Preliminary Determination PDM at 5-17.

Changes Since the Preliminary Determination and Post-Preliminary Analysis

Based on our review and analysis of the information at verification and comments received from interested parties, we made changes to the subsidy rate calculations for Baolingbao Biology, Shandong Sanyuan, and all other producers/exporters, including the addition of subsidy programs included in the Post-Preliminary Analysis. For a discussion of these changes, see the Issues and Decision Memorandum.

All-Others Rate

Section 705(c)(5)(A) of the Act provides that Commerce shall determine an estimated all-others rate for companies not individually examined. This rate shall be an amount equal to the weighted average of the estimated subsidy rates established for those companies individually examined, excluding any zero and de minimis rates and any rates based entirely under section 776 of the Act.

In this investigation, Commerce calculated individual estimated subsidy rates for Baolingbao Biology and Shandong Sanyuan that are not zero, de minimis, or based entirely on the facts otherwise available. Consequently, Commerce calculated the all-others rate using a weighted average of the individual estimated subsidy rates calculated for the examined respondents using each company's publicly-ranged values for the subject merchandise.¹¹

¹¹ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly ranged sales data were available, Commerce based the all-others rate on the publicly ranged sales data of the mandatory respondents. For a complete analysis of the data, see Memorandum, “Calculation of the All-Others Rate for the Final Determination,” dated concurrently with this notice.

Final Determination

Commerce determines that the following estimated countervailable subsidy rates exist for the period January 1, 2023, through December 31, 2023:

Company | Subsidy rate (percent ad valorem)
Baolingbao Biology Co., Ltd. | 4.54
Shandong Sanyuan Biotechnology Co., Ltd. | 8.63
All Others | 8.12

Disclosure

Commerce intends to disclose its calculations performed to interested parties in this final determination within five days of its public announcement or, if there is no public announcement, within five days of the date of the publication of this notice in the Federal Register, in accordance with 19 CFR 351.224(b).

Continuation of Suspension of Liquidation

As a result of our Preliminary Determination, and pursuant to sections 703(d)(1)(B) and (d)(2) of the Act, we instructed U.S. Customs and Border Protection (CBP) to collect cash deposits and suspend liquidation of entries of subject merchandise from China that were entered, or withdrawn from warehouse, for consumption, on or after May 16, 2025, the date of the publication of the Preliminary Determination in the Federal Register.¹² In accordance with section 703(d) of the Act, we instructed CBP to discontinue the suspension of liquidation of all entries of subject merchandise entered or withdrawn from warehouse, on or after September 13, 2025 but to continue the suspension of liquidation of all entries of subject merchandise on or before September 12, 2025.

¹² See Preliminary Determination, 90 FR at 21000.

If the U.S. International Trade Commission (ITC) issues a final affirmative injury determination, we will issue a CVD order, reinstate the suspension of liquidation under section 706(a) of the Act, and require a cash deposit of estimated countervailing duties for entries of subject merchandise in the amounts indicated above. Pursuant to section 705(c)(2) of the Act, if the ITC determines that material injury, or threat of material injury, does not exist, this proceeding will be terminated, and all estimated duties deposited or securities posted as a result of the suspension of liquidation will be refunded or cancelled.

ITC Notification

In accordance with section 705(d) of the Act, Commerce will notify the ITC of its final affirmative determination that countervailable subsidies are being provided to producers and exporters of erythritol from China. As Commerce's final determination is affirmative, in accordance with section 705(b) of the Act, the ITC will determine, within 45 days, whether the domestic industry in the United States is materially injured, or threatened with material injury, by reason of import of erythritol from China. In addition, we are making available to the ITC all non-privileged and non-proprietary information in our files, provided the ITC confirms that it will not disclose such information, either publicly or under administrative protective order (APO), without the written consent of the Assistant Secretary for Enforcement and Compliance.

If the ITC determines that material injury or threat of material injury does not exist, this proceeding will be terminated, and all cash deposits will be refunded. If the ITC determines that such injury does exist, Commerce will issue a CVD order directing CBP to assess, upon further instruction by Commerce, countervailing duties on all imports of the subject merchandise that are entered, or withdrawn from warehouse, for consumption on or after the effective date of the suspension of liquidation, as discussed above in the “Continuation of Suspension of Liquidation” section.

Administrative Protective Order

This notice will serve as the final reminder to parties subject to an APO of their responsibility concerning the destruction of proprietary information disclosed under APO, in accordance with 19 CFR 351.305(a)(3). Timely written notification of the return or destruction of APO materials or conversion to judicial protective order is hereby requested. Failure to comply with the regulations and terms of an APO is a violation which is subject to sanction.

Notification to Interested Parties

This determination is issued and published in accordance with sections 705(d) and 777(i) of the Act, and 19 CFR 351.210(c).

Dated: February 4, 2026.
Christopher Abbott,
Deputy Assistant Secretary for Policy and Negotiations, performing the non-exclusive functions and duties of the Assistant Secretary for Enforcement and Compliance.

Appendix I

Scope of the Investigation

The product within the scope of this investigation is erythritol, which is a sugar alcohol, commonly referred to as a polyol, typically produced by the fermentation of glucose using enzymes and yeast or yeast-like fungi (though the scope includes erythritol produced using any other feedstock or organism). Erythritol is an organic compound with the molecular formula C4 H10 O4 and a Chemical Abstracts Service (CAS) registry number of 149-32-6. Other names for erythritol include meso-erythritol,(2R, 3S)-butan-1,2,3,4-tetrol, butane-1,2,3,4-tetrol, or meso-1,2,3,4-Tetrahydryoxybutane.

Erythritol typically appears as a white crystalline, odorless product that rapidly dissolves in water. While erythritol is typically produced in the crystalline form or as a fine powder or in directly compressible form, the scope of this investigation covers all physical forms and grades of erythritol, including organic erythritol.

The merchandise covered by this investigation is classifiable under Harmonized Tariff Schedule of the United States (HTSUS) subheading 2905.49.4000. Erythritol may also enter under HTSUS subheading 2106.90.9998. Although the HTSUS subheadings and the CAS registry number are provided for convenience and customs purposes, the written description of the merchandise covered by this investigation is dispositive.

Specifically excluded from the scope are certain tabletop sugar substitute products that contain erythritol as an ingredient. Tabletop sugar substitute products include erythritol as an ingredient as well as a high intensity sweeter such as monk fruit, stevia, sucralose, aspartame, and saccharin. The following tabletop sugar substitute products are excluded: finished goods packaged and labeled for retail sale or individual consumption.

Appendix II

List of Topics Discussed in the Issues and Decision Memorandum

I. Summary

II. Background

III. Subsidies Valuation Information

IV. Use of Facts Available and Adverse Inferences

V. Analysis of Programs

VI. Discussion of the Issues

Comment 1: Whether Commerce's Decision to Countervail the Provision of Electricity for LTAR Program Is Based on Substantial Evidence and Is in Accordance With Law

Comment 2: Whether Commerce's Decision To Countervail the Provision of Land-Use Rights for LTAR Is Based on Substantial Evidence and Is in Accordance With Law

Comment 3: Whether Commerce Erred in Its Calculation of the Benefit for the Provision of Land Use-Rights for LTAR Program

Comment 4: Other Subsidies

Comment 5: Whether To Modify the Benchmark Applied to Baolingbao Biology's “Flat” Electricity Purchases for the Provision of Electricity for LTAR Program

Comment 6: Whether Commerce Erred in Its Selection of Discount Rate To Allocate Baolingbao Biology's Benefits During the AUL Period

Comment 7: Whether To Modify the Benefit Calculation for Shandong Sanyuan for the Provision of Electricity for LTAR Program

Comment 8: Whether Commerce's Decision To Countervail the Provision of LNG for LTAR Program Is Based on Substantial Evidence and Is in Accordance With Law

Comment 9: Whether Commerce Erred in Its Benchmark Calculation for the Provision of LNG for LTAR Program

Comment 10: Whether Commerce Should Include Shandong Sanyuan's Benefit From the Income Tax Deduction For Research and Development Expenses Under the Enterprise Income Tax Law in the Final Determination

Comment 11: Whether Commerce's Decision To Countervail the Urban Land-Use Tax Reduction Program for High-Tech Enterprises Is Contrary to Law

VII. Recommendation

[FR Doc. 2026-02563 Filed 2-9-26; 8:45 am]

BILLING CODE 3510-DS-P